DEPARTMENT OF THE INTERIOR

Bureau of Land Management

[CA-190-0777-XG]

Central California Resource Advisory Council Meeting

AGENCY: Bureau of Land Management, Interior.

ACTION: Notice of public meeting: Central California Resource Advisory Council.

SUMMARY: In accordance with the Federal Land and Policy Management Act of 1976 (FLPMA), and the Federal Advisory Committee Act of 1972 (FACA), the U.S. Department of the Interior, Bureau of Land Management (BLM) Central California Resource Advisory Council (RAC) will meet at the Hacienda, Building 101, Infantry Road, located on Fort Hunter-Liggett. Access to the Hacienda is from U.S. Highway 101 (North). Take the “Fort Hunter Liggett/Jolon Road” exit just north of King City; proceed 18 miles to the intersection of Jolon and Mission Roads and the entrance to Fort Hunter Liggett. Continue five miles to the main post area where a series of signs will provide directions to the Hacienda. From U.S. Highway 101 (South) near Bradley take the “Fort Hunter Liggett/Jolon Road” exit, proceed 16 miles to Lockwood. Proceed through Lockwood for five miles to Mission Road. Turn left on Mission Road through the gate to Fort Hunter Liggett and continue five miles to the main post area where a series of signs will provide directions to the Hacienda. To enter the Fort, all visitors must have a valid drivers' license, vehicle registration, and proof of auto insurance.

DATES: The meeting will be held Friday, October 15 and Saturday, October 16, 2004, in the Hacienda on Fort Hunter-Liggett, California. On Friday, October 15, the meeting will begin at 8 a.m. at the Hacienda. At 2 p.m. on Friday, October 15, a public comment period will be held at the Hacienda. On Saturday, October 15 the meeting will begin at 8 a.m. at the Hacienda. A field tour of public lands at the Joaquin Rocks will commence at 9 a.m.

SUPPLEMENTARY INFORMATION: The 12-member council advises the Secretary of the Interior, through the BLM, on a variety of planning and management issues associated with public land management in Central California. At this meeting, agenda topics will include discussions of the abandoned mine lands program on BLM managed lands in Central California, regional resource management planning efforts, conservation programs, recreation, grazing, cultural resources, and land access issues. The RAC members will also hear status reports from the Bakersfield, Bishop, Folsom, and Hollister field office managers. All meetings are open to the public. Members of the public may present written comments to the council. Each formal council meeting allocates time for oral public comments. Depending on the number of persons wishing to speak and the time available, time for individual comments may be limited. Members of the public are welcome on field tours but they must provide for their own transportation and sustenance. Individuals who plan to attend and need special assistance, such as sign language interpretation and other reasonable accommodations, should contact the BLM Hollister Field Office.

FOR FURTHER INFORMATION CONTACT: George Hill—Assistant Field Manager, BLM Hollister Field Office, 20 Hamilton Court, Hollister, CA 95023, (831) 630-5036 or e-mail: George_Hill@ca.blm.gov.

Dated: September 22, 2004.
Robert E. Beehler,
Field Office Manager; Hollister Field Office.

[FR Doc. 04-21746 Filed 9-27-04; 8:45 am]

BILLING CODE 4310-40-P